FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 12, 2002.

A. Federal Reserve Bank of Boston (Richard Walker, Community Affairs Officer) 600 Atlantic Avenue, Boston, Massachusetts 02106-2204:

1. Dorothy M. Mawn, Woburn, Massachusetts, James Lawrence Mawn, Malden, Massachusetts, Russell A. Mawn, Vestavia Hills, Alabama, Diane Desenberg and Tomas M. Mawn, III, both of Sarasota, Florida, Mary Elizabeth Mawn-Ferullo, Woburn, Massachusetts, Martha J. Robillard, Groton, Massachusetts, Dorothy Mawn Grandchildren’s Trust, Woburn, Massachusetts (trustees Mary Elizabeth Mawn-Ferullo and Russel A. Mawn), The Thomas M. Mawn, Jr., Trust Fund B, Woburn, Massachusetts (trustees Dorothy M. Mawn, Mary Elizabeth Mawn-Ferullo, and Catherine A. Webb), and the Thomas and Dorothy Mawn Family Limited Partnership, Woburn, Massachusetts (general partners Mary Elizabeth Mawn-Ferullo and Russel A. Mawn), acting in concert to acquire voting shares of Northern Bancorp, Inc., Woburn, Massachusetts, and thereby indirectly acquire voting shares of Northern Bank & Trust Company, Woburn, Massachusetts.

2. Thomas M. Mawn, Jr., Trust Fund B, Woburn, Massachusetts; to acquire voting shares of Northern Bancorp, Inc., Woburn, Massachusetts, and thereby indirectly acquire voting shares of Northern Bank & Trust Company, Woburn, Massachusetts.

3. Dorothy M. Mawn, Woburn, Massachusetts; to acquire voting shares of Northern Bancorp, Inc., Woburn, Massachusetts, and thereby indirectly acquire voting shares of Northern Bank & Trust Company, Woburn, Massachusetts.

Board of Governors of the Federal Reserve System, March 25, 2002.
Robert deV. Frierson,
Deputy Secretary of the Board.

[FR Doc. 02-7553 Filed 3-28-02; 8:45 am]

BILLING CODE 6210-01-S